DEPARTMENT OF COMMERCE

International Trade Administration

[A-570-891]

Hand Trucks and Certain Parts Thereof from the People's Republic of China: Final Results of 2006-2007 Semi-Annual New Shipper Review

AGENCY: Import Administration, International Trade Administration, Department of Commerce.

SUMMARY: On April 30, 2008, the Department of Commerce (the “Department”) published the preliminary results of the semiannual new shipper review of the antidumping duty order on hand trucks and certain parts thereof from the People's Republic of China (“PRC”). See Hand Trucks and Certain Parts Thereof from the People's Republic of China: Preliminary Results of the 2006-2007 Semiannual New Shipper Review, 73 FR 23420 (April 30, 2008) (“Preliminary Results”). The merchandise covered by this review is hand trucks, exported and manufactured by New-Tec Integration (Xiamen) Co., Ltd. (“New-Tec”), as described in the “Scope of the Order” section of this notice. The period of review is December 1, 2006, through May 31, 2007. We invited parties to comment on our Preliminary Results. We received no comments, and no new evidence was placed on the record. Therefore, the final results are unchanged from those presented in the Preliminary Results. The final weighted-average dumping margin for New-Tec is listed below in the section entitled “Final Results of the Review.”

EFFECTIVE DATE: August 15, 2008.

FOR FURTHER INFORMATION CONTACT: Eugene Degnan or Robert Bolling, AD/CVD Operations, Office 8, Import Administration, International Trade Administration, U.S. Department of Commerce, 14th Street and Constitution Avenue, NW, Washington, DC 20230; telephone: (202) 482-0414 and (202) 482-3434, respectively.

SUPPLEMENTARY INFORMATION:

Case History

Following the Preliminary Results, the Department did not conduct verification and no party requested a hearing. In our Preliminary Results we stated that interested parties were to submit case briefs within 30 days and rebuttal briefs within 35 days of publication of the Preliminary Results. No interested party submitted a case or rebuttal brief. In a notice on May 14, 2008, the Department stated that the 2007 expected non-market economy wage rates will be in effect for all antidumping duty proceedings for which the Department's final decision is due after the publication of the notice. See Corrected 2007 Calculation of Expected Non-Market Economy Wages, 73 FR 27795 (May 14, 2008). For the final results, we ran our SAS programming for New-Tec using the new wage rate.

Scope of Order

The product covered by this order consists of hand trucks manufactured from any material, whether assembled or unassembled, complete or incomplete, suitable for any use, and certain parts thereof, namely the vertical frame, the handling area and the projecting edges or toe plate, and any combination thereof.

A complete or fully assembled hand truck is a hand-propelled barrow consisting of a vertically disposed frame having a handle or more than one handle at or near the upper section of the vertical frame; at least two wheels at or near the lower section of the vertical frame; and a horizontal projecting edge or edges, or toe plate, perpendicular or angled to the vertical frame, at or near the lower section of the vertical frame. The projecting edge or edges, or toe plate, slides under a load for purposes of lifting and/or moving the load.

That the vertical frame can be converted from a vertical setting to a horizontal setting, then operated in that horizontal setting as a platform, is not a basis for exclusion of the hand truck from the scope of this petition. That the vertical frame, handling area, wheels, projecting edges or other parts of the hand truck can be collapsed or folded is not a basis for exclusion of the hand truck from the scope of the petition. That other wheels may be connected to the vertical frame, handling area, projecting edges, or other parts of the hand truck, in addition to the two or more wheels located at or near the lower section of the vertical frame, is not a basis for exclusion of the hand truck from the scope of the petition. Finally, that the hand truck may exhibit physical characteristics in addition to the vertical frame, the handling area, the projecting edges or toe plate, and the two wheels at or near the lower section of the vertical frame, is not a basis for exclusion of the hand truck from the scope of the petition. Examples of names commonly used to reference hand trucks are hand truck, convertible hand truck, appliance hand truck, cylinder hand truck, bag truck, dolly, or hand trolley. They are typically imported under heading 8716.80.50.10 of the Harmonized Tariff Schedule of the United States (“HTSUS”), although they may also be imported under heading 8716.80.50.90. Specific parts of a hand truck, namely the vertical frame, the handling area and the projecting edges or toe plate, or any combination thereof, are typically imported under heading 8716.90.50.60 of the HTSUS. Although the HTSUS subheadings are provided for convenience and customs purposes, the Department's written description of the scope is dispositive.

Excluded from the scope are small two-wheel or four-wheel utility carts specifically designed for carrying loads like personal bags or luggage in which the frame is made from telescoping tubular material measuring less than 5/8 inch in diameter; hand trucks that use motorized operations either to move the hand truck from one location to the next or to assist in the lifting of items placed on the hand truck; vertical carriers designed specifically to transport golf bags; and wheels and tires used in the manufacture of hand trucks.

Analysis of Comment Received

No comments were received.

Final Results of the Review

The Department has determined that the following weighted-average margin exists for New-Tec for the period December 1, 2006, through May 31, 2007.

Hand Trucks and Parts Thereof from the PRC
Exporter | Weighted-Average Margin (Percent)
New-Tec Integration (Xiamen) Co., Ltd. | 0.00

Assessment Rates

Upon issuance of the final results, the Department will determine, and U.S. Customs and Border Protection (“CBP”) shall assess, antidumping duties on all appropriate entries. The Department intends to issue assessment instructions to CBP 15 days after the date of publication of these final results of review. We will direct CBP to assess the appropriate assessment rate (zero percent) against the entered customs values for the subject merchandise on each of New-Tec's entries during the period of review.

Cash Deposit Requirements

The following cash deposit requirements will be effective upon publication of the final results of this new shipper review for all shipments of the subject merchandise entered, or withdrawn from warehouse, for consumption on or after date of publication, as provided by section 751(a)(2)(C) of the Tariff Act of 1930, as amended (“the Act”): (1) for subject merchandise exported and produced by New-Tec, no cash deposit will be required; (2) for subject merchandise exported but not produced by New-Tec, the cash deposit rate will be the PRC-wide rate (383.60 percent); and (3) for subject merchandise manufactured by New-Tec but exported by a party other than New-Tec, the cash deposit rate will be the rate applicable to the exporter. These deposit requirements shall remain in effect until further notice.

Notification to Interested Parties

This notice also serves as a final reminder to importers of their responsibility under 19 CFR 351.402(f)(2) to file a certificate regarding the reimbursement of antidumping duties prior to liquidation of the relevant entry during this review period. Failure to comply with this requirement could result in the Secretary's presumption that reimbursement of the antidumping duties occurred and the subsequent assessment of double antidumping duties.

This notice also serves as a reminder to parties subject to administrative protective orders (“APO”) of their responsibility concerning the return or destruction of proprietary information disclosed under APO in accordance with 19 CFR 351.305. Timely written notification of the return or destruction of APO materials or conversion to judicial protective order is hereby requested. Failure to comply with the regulations and terms of an APO is a violation which is subject to sanction.

This new shipper review and this notice are published in accordance with sections 751(a)(2)(B) and 777(i)(1) of the Act.

Dated: July 21, 2008.
David M. Spooner,
Assistant Secretary for Import Administration.

[FR Doc. E8-18943 Filed 8-14-08; 8:45 am]

BILLING CODE 3510-DS-S